DEPARTMENT OF COMMERCE

National Oceanic and Atmospheric Administration (NOAA)

National Climate Assessment and Development Advisory Committee (NCADAC)

AGENCY: Office of Oceanic and Atmospheric Research (OAR), National Oceanic and Atmospheric Administration (NOAA), Department of Commerce (DOC).

ACTION: Notice of open meeting.

SUMMARY: The National Climate Assessment and Development Advisory Committee (NCADAC) was established by the Secretary of Commerce under the authority of the Global Change Research Act of 1990 to synthesize and summarize the science and information pertaining to current and future impacts of climate.

Time and Date: The meeting will be held August 16 and 17, 2011, from 9 a.m to 6 p.m. and August 18, 2011, from 9 a.m. to 3 p.m. These times and the agenda topics described below are subject to change. Please refer to the web page http://www.globalchange.gov for the most up-to-date meeting agenda.

Place: The meeting will be held at the EPA Offices at the US EPA Potomac Yard Conference Facility, 1st Floor conference room in the Potomac Yard ONE or SOUTH building. The address is 2777 Crystal Drive, Arlington, VA 22202. Please check the Web site http://www.globalchange.gov for confirmation of the venue and for directions.

Status: Seating will be available on a first come, first serve basis. Members of the public must RSVP in order to attend all or a portion of the meeting by contacting the NCADAC DFO (Cynthia.Decker@noaa.gov) by August 9, 2011. The meeting will be open to public participation with a 30 minute public comment period on August 17 at 5:30 p.m. (check Web site to confirm time). The NCADAC expects that public statements presented at its meetings will not be repetitive of previously submitted verbal or written statements. In general, each individual or group making a verbal presentation will be limited to a total time of five (5) minutes. Individuals or groups planning to make a verbal presentation should contact the NCADAC DFO (Cynthia.Decker@noaa.gov) by August 9, 2011 to schedule their presentation. Written comments should be received in the NCADAC DFO's Office by August 9, 2011 to provide sufficient time for NCADAC review. Written comments received by the NCADAC DFO after August 9, 2011 will be distributed to the NCADAC, but may not be reviewed prior to the meeting date.

FOR FURTHER INFORMATION CONTACT: Dr. Cynthia Decker, Executive Director, Science Advisory Board, NOAA OAR, R/SAB, 1315 East-West Highway, Silver Spring, Maryland 20910. (Phone: 301-734-1156, Fax: 301-713-1459, E-mail: Cynthia.Decker@noaa.gov; or visit the NCADAC Web site at http://www.globalchange.gov.

Dated: July 19, 2011.
Mark E. Brown,
Chief Financial Officer/Chief Administrative Officer, Office of Oceanic and Atmospheric Research, National Oceanic and Atmospheric Administration.

[FR Doc. 2011-18653 Filed 7-22-11; 8:45 am]

BILLING CODE 3510-KD-P